MILLENNIUM CHALLENGE CORPORATION

[MCC FR 14-07]

Notice of Entering Into a Compact With the Republic of Ghana; Correction

AGENCY: Millennium Challenge Corporation.

ACTION: Notice; correction.

SUMMARY: The Millennium Challenge Corporation (MCC) published a document in the Federal Register of August 14, 2014, providing notice of entering into a compact with the Republic of Ghana. The document contained an incomplete Uniform Resource Locator for the text of the Compact posted on the MCC Web site.

FOR FURTHER INFORMATION CONTACT: John C. Mantini, 202-521-3863.

Correction

In the Federal Register of August 14, 2014, in FR Doc. 2014-19196, on page 47684, in the second column, correct the SUMMARY caption to read:

SUMMARY:

In accordance with Section 610(b)(2) of the Millennium Challenge Act of 2003 (22 U.S.C. 7701-7718), the Millennium Challenge Corporation (MCC) is publishing a summary of the Millennium Challenge Compact between the United States of America, acting through the Millennium Challenge Corporation, and the Republic of Ghana. Representatives of the United States Government and Ghana executed the Compact documents on August 5, 2014. The complete text of the Compact has been posted at http://www.mcc.gov/documents/agreements/compact-ghana-power.pdf.

Dated: October 9, 2014.
John C. Mantini,
Assistant General Counsel, Millennium Challenge Corporation.

[FR Doc. 2014-24587 Filed 10-15-14; 8:45 am]

BILLING CODE 9211-03-P